DEPARTMENT OF TRANSPORTATION

Federal Aviation Administration

14 CFR Part 39

[Docket No. FAA-2019-0447; Product Identifier 2018-CE-055-AD; Amendment 39-19667; AD 2019-12-12]

RIN 2120-AA64

Airworthiness Directives; Piper Aircraft, Inc.

AGENCY: Federal Aviation Administration (FAA), DOT.

ACTION: Final rule; request for comments.

SUMMARY: The FAA is adopting a new airworthiness directive (AD) for certain Piper Aircraft, Inc. (Piper) Model PA-46-600TP (M600) airplanes. This AD requires inserting a ground operations limitation into the Limitations section of the airplane flight manual (AFM) and installing a placard limiting ground operations. This AD also includes optional actions to terminate the ground operating limitations. This AD was prompted by a report of understrength rivets installed during manufacture of the bulkhead assembly. The FAA is issuing this AD to address the unsafe condition on these products.

DATES: This AD is effective July 12, 2019.

The Director of the Federal Register approved the incorporation by reference of a certain publication listed in this AD as of July 12, 2019.

The FAA must receive comments on this AD by August 12, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Piper Aircraft, Inc., 2926 Piper Drive, Vero Beach, Florida 32960; telephone: (772) 567-4361; internet: www.piper.com. You may view this service information at the FAA, Policy and Innovation Division, 901 Locust, Kansas City, Missouri 64106. For information on the availability of this material at the FAA, call (816) 329-4148. It is also available on the internet at http://www.regulations.gov by searching for and locating Docket No. FAA-2018-0447.

Examining the AD Docket

You may examine the AD docket on the internet at http://www.regulations.gov by searching for and locating Docket No. FAA-2019-0447; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Dan McCully, Aerospace Engineer, FAA, Atlanta ACO Branch, 1701 Columbia Avenue, College Park, Georgia 30337; telephone: (404) 474-5548; fax: (404) 474-5606; email: william.mccully@faa.gov.

SUPPLEMENTARY INFORMATION:

Discussion

The FAA received a report from Piper that incorrect rivets were installed in the bulkhead assembly at fuselage station (FS) 79.00 during the manufacture of certain serial-numbered Model PA-46-600TP (M600) airplanes. The rivets were not in accordance with the type design drawing, nor did they meet the strength requirements of the aircraft design. This condition, if not corrected, could result in failure of the rivets, which could lead to structural failure of the bulkhead assembly and loss of control of the airplane. The FAA is issuing this AD to correct the unsafe condition on these products.

Related Service Information Under 1 CFR Part 51

The FAA reviewed Piper Service Bulletin No. 1332A, dated January 29, 2019. The service bulletin contains procedures for inserting the temporary ground operating limitation into the pilot's operating handbook (POH) and installing a placard with the temporary ground operating limitation, either a fabricated placard or placard part number 46G110013-702, in the airplane cockpit. The service bulletin also contains procedures for inspecting the FS 79.00 bulkhead assembly for cracks, wrinkling, or missing rivets and for replacing the understrength rivets with new rivets. This service information is reasonably available because the interested parties have access to it through their normal course of business or by the means identified in the ADDRESSES section.

FAA's Determination

The FAA is issuing this AD because the FAA evaluated all the relevant information and determined the unsafe condition described previously is likely to exist or develop in other products of the same type design.

AD Requirements

This AD requires inserting a ground operating limitation into the Limitations section of the AFM and installing a placard in the airplane cockpit that limits ground operations. This AD also includes an optional action to terminate the ground operating limitation by replacing the rivets to reinforce the bulkhead assembly. Although Piper's service information specifies inserting the operating limitation into the POH, Piper's POH for the Model PA-46-600TP constitutes its FAA-approved AFM.

Interim Action

The FAA considers this AD interim action. The FAA may require replacement of the rivets to reinforce the bulkhead assembly. However, the planned compliance time for the replacement of the rivets would allow enough time to provide notice and opportunity for prior comment on the merit of the replacement.

FAA's Justification and Determination of the Effective Date

An unsafe condition exists that requires the immediate adoption of this AD without providing an opportunity for public comments prior to adoption. The FAA has found that the risk to the flying public justifies waiving notice and comment prior to adoption of this rule because the required corrective actions must be accomplished before further flight. Providing prior notice and comment would delay implementing these safety actions needed to correct this known unsafe condition, which could result in structural failure of the FS 79.00 bulkhead, resulting in loss of control of the airplane. Therefore, the FAA finds good cause that notice and opportunity for prior public comment are impracticable. In addition, for the reason stated above, the FAA finds that good cause exists for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2019-0447 and Product Identifier 2018-CE-055-AD at the beginning of your comments. The FAA specifically invites comments on the overall regulatory, economic, environmental, and energy aspects of this final rule. The FAA will consider all comments received by the closing date and may amend this final rule because of those comments.

The FAA will post all comments the FAA receives, without change, to http://www.regulations.gov, including any personal information you provide. The FAA will also post a report summarizing each substantive verbal contact the FAA receives about this final rule.

Costs of Compliance

The FAA estimates that this AD affects 69 airplanes, of U.S. registry.

The FAA estimates the following costs to comply with this AD:

Estimated Costs
Action | Labor cost | Parts cost | Cost per product | Cost on U.S. operators
Insert the ground operating limitation into the AFM and install placard limiting ground operations | 1 work-hour × $85 per hour = $85 | $6.00 | $91 | $6,279

Optional Terminating Action
Action | Labor cost | Parts cost | Cost per product | Cost on U.S. operators
Optional terminating action to replace rivets | 100 work-hours × $85 per hour = $8,500 | $200 | $8,700 | $600,300

According to the manufacturer, some of the costs of this AD may be covered under warranty, thereby reducing the cost impact on affected individuals. The FAA does not control warranty coverage for affected individuals. As a result, the FAA has included all costs in their cost estimate.

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-12-12 Piper Aircraft, Inc.: Amendment 39-19667; Docket No. FAA-2019-0447; Product Identifier 2018-CE-055-AD.

(a) Effective Date

This AD is effective July 12, 2019.

(b) Affected ADs

None.

(c) Applicability

This AD applies to Piper Aircraft, Inc., Model PA-46-600TP (M600) airplanes, serial numbers 4698001, 4698004 through 4698010, 4698012 through 4698016, and 4698018 through 4698076, certificated in any category.

(d) Subject

Joint Aircraft System Component (JASC)/Air Transport Association (ATA) of America Code 5312, bulkhead.

(e) Unsafe Condition

This AD was prompted by a report of understrength rivets installed on the bulkhead assembly during manufacture. The FAA is issuing this AD to prevent failure of the understrength rivets, which could lead to structural failure of the fuselage station (FS) 79 bulkhead with consequent loss of control of the airplane.

(f) Compliance

Comply with this AD within the compliance times specified, unless already done.

(g) Ground Operating Limitation

(1) Before further flight after July 12, 2019 (the effective date of this AD), insert the ground operations limitation into the Limitations section of the airplane flight manual (AFM) and install on the airplane cockpit instrument panel a placard limiting ground operations by following the Instructions, Part I Temporary Ground Operating Limitation, of Piper Aircraft, Inc., Service Bulletin No. 1332A, dated January 29, 2019 (Piper SB No. 1332A).

Note 1 to paragraph (g)(1) and (h)(2) of this AD: The Piper Aircraft, Inc. pilot's operating handbook for the Model PA-46-600TP (M600) airplane constitutes its FAA-approved AFM.

(2) The actions required by paragraph (g)(1) of this AD may be performed by the owner/operator (pilot) holding at least a private pilot certificate and must be entered into the aircraft records showing compliance with this AD in accordance with 14 CFR 43.9 (a)(1) through (4) and 14 CFR 91.417(a)(2)(v). The record must be maintained as required by 14 CFR 91.417, 121.380, or 135.439.

(h) Optional Action To Terminate the Ground Operating Limitation

(1) After July 12, 2019 (the effective date of this AD), you may replace the FS 79.00 bulkhead rivets in accordance with the Instructions, Part II Rework, of Piper SB No. 1332A.

(2) If the FS 79.00 bulkhead rivets have been replaced as specified in paragraph (h)(1) of this AD, you may remove the AFM revision and placard required by paragraph (g) of this AD.

(i) Credit for Previous Actions

This paragraph provides credit for the actions in paragraphs (g) and (h) of this AD, if those actions were performed before July 12, 2019 (the effective date of this AD) using Piper Aircraft, Inc. SB No. 1332, dated October 16, 2018.

(j) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k) of this AD.

(2) Before using any approved AMOC, notify your appropriate principal inspector, or lacking a principal inspector, the manager of the local flight standards district office/certificate holding district office.

(k) Related Information

For more information about this AD, contact Dan McCully, Aerospace Engineer, FAA, Atlanta ACO Branch, 1701 Columbia Avenue, College Park, Georgia 30337; telephone: (404) 474-5548; fax: (404) 474-5606; email: william.mccully@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Piper Aircraft, Inc. Service Bulletin No. 1332A, dated January 29, 2019.

(ii) [Reserved]

(3) For Piper Aircraft, Inc. service information identified in this AD, contact Piper Aircraft, Inc., 2926 Piper Drive, Vero Beach, FL 32960; telephone: (772) 567-4361; internet: www.piper.com/technical-publications-documents/.

(4) You may view this service information at FAA, Policy and Innovation Division, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on June 17, 2019.
Melvin J. Johnson,
Aircraft Certification Service, Deputy Director, Policy and Innovation Division, AIR-601.

[FR Doc. 2019-13603 Filed 6-26-19; 8:45 am]

BILLING CODE 4910-13-P